DEPARTMENT OF COMMERCE

Bureau of Industry and Security

15 CFR Parts 738, 742, 772, and 774

[Docket No. 040614182-4182-01]

RIN 0694-AD11

Revisions to the Export Administration Regulations To Remove Certain Regional Stability and Crime Control License Requirements to New North Atlantic Treaty Organization (NATO) Member Countries

AGENCY: Bureau of Industry and Security, Commerce.

ACTION: Final rule.

SUMMARY: The Bureau of Industry and Security maintains the Export Administration Regulations (EAR). This rule amends the EAR by removing the license requirements for certain regional stability items and for certain crime control items destined to Bulgaria, Estonia, Latvia, Lithuania, Romania, Slovakia, and Slovenia to reflect the accession of those countries to the North Atlantic Treaty Organization (NATO) on March 29, 2004. In addition, this rule makes certain conforming corrections and clarifications.

EFFECTIVE DATES: This rule is effective: June 28, 2004.

FOR FURTHER INFORMATION CONTACT: Eileen Albanese, Director, Office of Exporter Services, Bureau of Industry and Security, Telephone: (202) 482-0436.

SUPPLEMENTARY INFORMATION:

Background

Section 742.6(a)(2) of the EAR requires a license for the export or reexport of certain military related items, such as military vehicles and certain specially designed commodities used to manufacture military equipment for reasons of “regional stability” in support of foreign policy. Section 742.7(a)(1)-(3) of the EAR also requires a license for the export or reexport of certain crime control and detection instruments and equipment, and related technology and software as a matter of foreign policy, to promote the observance of human rights throughout the world. The EAR do not require a license for the export or reexport of these items to NATO member countries. Therefore, this rule removes the license requirements for these items to the 7 countries that recently joined NATO: Bulgaria, Estonia, Latvia, Lithuania, Romania, Slovakia, and Slovenia. This rule also removes the “X” from the RS:2 column and from all CC columns for these countries in the Commerce Country Chart in Supplement No. 1 to part 738 of the EAR.

In addition, this rule revises the definition of NATO (North Atlantic Treaty Organization) in part 772 of the EAR, by adding the 7 countries that recently joined NATO, plus Czech Republic, Hungary, and Poland, which were inadvertently not added to the definition of NATO in the regulation published on March 18, 2002 (67 FR 11896). This rule also amends the definition of COCOM (Coordinating Committee on Multilateral Export Controls) by replacing the phrase “COCOM members included the NATO countries, except Iceland, plus Japan and Australia” with a specific list of countries that were members of COCOM, to clarify that the membership of NATO at the time COCOM existed was different than it is today.

This rule also clarifies License Exception TSR eligibility in the License Exception sections of two Export Control Classification Numbers (ECCN) 9D018 and 9E018 in the Commerce Control List. The TSR paragraph for these ECCNs state, “Yes for Australia, Japan, New Zealand, and NATO.” However, TSR is only available for export and reexport to countries listed in Country Group B. Therefore, the statement of eligibility for TSR for these ECCNs will be revised to read, “Yes for Australia, Japan, New Zealand, and NATO countries that are also listed in Country Group B of Supplement No. 1 to part 740 of the EAR.”

Although the Export Administration Act expired on August 20, 2001, Executive Order 13222 of August 17, 2001 (66 FR 44025, August 22, 2001), as extended by the Notice of August 7, 2003,(68 FR 47833, 2003 WL 21877490), continues the Regulations in effect under the International Emergency Economic Powers Act.

Rulemaking Requirements

1. This final rule has been determined to be not significant for purposes of E.O. 12866.

2. Notwithstanding any other provision of law, no person is required to respond to, nor shall any person be subject to a penalty for failure to comply with a collection of information, subject to the requirements of the Paperwork Reduction Act of 1995 (44 U.S.C. 3501 et seq.) (PRA), unless that collection of information displays a currently valid Office of Management and Budget (OMB) Control Number. This rule involves a collection of information subject to the PRA. This collection has been approved by OMB under control number 0694-0088, “Multi-Purpose Application,” which carries a burden hour estimate of 58 minutes for a manual or electronic submission. Send comments regarding these burden estimates or any other aspect of these collections of information, including suggestions for reducing the burden, to OMB Desk Officer, New Executive Office Building, Washington, DC 20503; and to the Office of Administration , Bureau of Industry and Security, Department of Commerce, 14th and Pennsylvania Avenue, NW., Room 6883, Washington, DC 20230.

3. This rule does not contain policies with Federalism implications as that term is defined under E.O. 13132.

4. The provisions of the Administrative Procedure Act (5 U.S.C. 553) requiring notice of proposed rulemaking, the opportunity for public participation, and a delay in effective date, are inapplicable because this regulation involves a military and foreign affairs function of the United States (5 U.S.C. 553(a)(1)). Further, no other law requires that a notice of proposed rulemaking and an opportunity for public comment be given for this final rule. Because a notice of proposed rulemaking and an opportunity for public comment are not required to be given for this rule under the Administrative Procedure Act or by any other law, the analytical requirements of the Regulatory Flexibility Act (5 U.S.C. 601 et seq.) are not applicable. Therefore, this regulation is issued in final form. Although there is no formal comment period, public comments on this regulation are welcome on a continuing basis. Comments should be submitted Sharron Cook, Office of Exporter Services, Bureau of Industry and Security, Department of Commerce, P.O. Box 273, Washington, DC 20044.

List of Subjects in 15 CFR Parts 738, 742, 772, and 774

Exports, Foreign trade.

Accordingly, parts 738, 742, 772, and 774 of the Export Administration Regulations (15 CFR parts 730-799) are amended as follows:

PART 738—[AMENDED]

1. The authority citation for 15 CFR part 738 is revised to read as follows:

Authority: 50 U.S.C. app. 2401 et seq.; 50 U.S.C. 1701 et seq.; 10 U.S.C. 7420; 10 U.S.C. 7430(e); 18 U.S.C. 2510 et seq.; 22 U.S.C. 287c; 22 U.S.C. 3201 et seq.; 22 U.S.C. 6004; 30 U.S.C. 185(s), 185(u); 42 U.S.C. 2139a; 42 U.S.C. 6212; 43 U.S.C. 1354; 46 U.S.C. app. 466c; 50 U.S.C. app. 5; Sec. 901-911, Pub. L. 106-387; Sec. 221, Pub. L. 107-56; E.O. 13026, 61 FR 58767, 3 CFR, 1996 Comp., p. 228; E.O. 13222, 66 FR 44025, 3 CFR, 2001 Comp., p. 783; Notice of August 7, 2003, 68 FR 47833, .3 CFR, 2003 Comp., p. 328.

2. Supplement No. 1 to part 738 is amended by revising the entries for “Bulgaria,” “Estonia,”, “Latvia,” Lithuania,” “Romania,” “Slovakia,” and “Slovenia” to read as follows:

Commerce Country Chart—Reason for Control
Countries | Chemical & biologival weapons: CB 1 | Chemical & biologival weapons: CB 2 | Chemical & biologival weapons: CB 3 | Nuclear nonproliferation: NP 1 | Nuclear nonproliferation: NP 2 | National security: NS 1 | National security: NS 2 | Missile tech: MT 1 | Regional stability: RS 1 | Regional stability: RS 2 | Firearms convention: FC 1 | Crime control: CC 1 | Crime control: CC 2 | Crime control: CC 3 | Anti- terrorism: AT 1 | Anti- terrorism: AT 2
* * * * * * *
Bulgaria | X |  |  |  |  | X | X |  |  |  |  |  |  |  |  |
* * * * * * *
Estonia | X | X |  | X |  | X | X | X | X |  |  |  |  |  |  |
* * * * * * *
Latvia | X | X |  |  | X | X | X |  |  |  |  |  |  |  |  |
* * * * * * *
Lithuania | X | X |  | X |  | X | X | X | X |  |  |  |  |  |  |
* * * * * * *
Romania | X |  |  |  |  | X | X | X | X |  |  |  |  |  |  |
* * * * * * *
Slovakia | X |  |  |  |  | X | X | X | X |  |  |  |  |  |  |
Slovenia | X | X |  |  |  | X | X | X | X |  |  |  |  |  |  |
* * * * * * *

PART 742—[AMENDED]

3. The authority citation for 15 CFR part 742 is revised to read as follows:

Authority: 50 U.S.C. app. 2401 et seq.; 50 U.S.C. 1701 et seq.; 18 U.S.C. 2510 et seq.; 22 U.S.C. 3201 et seq.; 42 U.S.C. 2139a; Sec. 901-911, Pub. L. 106-387; Sec. 221, Pub. L. 107-56; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13222, 66 FR 44025, 3 CFR, 2001 Comp., p. 783; Notice of October 29, 2003, 68 FR 62209, 3 CFR, 2003 Comp., p. 347; Notice of August 7, 2003, 68 FR 47833, 3 CFR, 2003 Comp., p. 328.

4. Section 742.6 is amended by revising paragraph (a)(2) to read as follows:

§ 742.6 Regional Stability.

(a) * * *

(2) As indicated in the CCL and in RS Column 2 of the Country Chart (see Supplement No. 1 to part 738 of the EAR), a license is required to any destination except Australia, Japan, New Zealand, and countries in the North Atlantic Treaty Organization (NATO) for items described on the CCL under ECCNs 0A918, 0E918, 2A983, 2D983, 2E983, 8A918, and for military vehicles and certain commodities (specially designed) used to manufacture military equipment, described on the CCL in ECCNs 0A018.c, 1B018.a, 2B018, and 9A018.a and .b.

* * * * *

PART 772—[AMENDED]

4. The authority citation for 15 CFR part 772 is revised to read as follows:

Authority: 50 U.S.C. app. 2401 et seq.; 50 U.S.C. 1701 et seq.; E.O. 13222, 66 FR 44025, 3 CFR, 2001 Comp., p. 783; Notice of August 7, 2003, 68 FR 47833, 3 CFR, 2003 Comp., p. 328.

5. Section 772.1 is amended by revising the definitions for “COCOM (Coordinating Committee on Multilateral Export Controls)” and “NATO (North Atlantic Treaty Organization)” to read as follows:

§ 772.1 Definitions of Terms as Used in the Export Administration Regulations (EAR).

* * * * *

COCOM (Coordinating Committee on Multilateral Export Controls). A multilateral organization that cooperated in restricting strategic exports to controlled countries. COCOM was officially disbanded on March 31, 1994. COCOM members included: Australia, Belgium, Canada, Denmark, France, Germany, Greece, Italy, Japan, Luxembourg, Netherlands, Norway, Portugal, Spain, Turkey, United Kingdom, and United States.

* * * * *

NATO (North Atlantic Treaty Organization). A strategic defensive organization that consists of the following member nations: Belgium, Bulgaria, Canada, Czech Republic, Denmark, Estonia, France, Germany, Greece, Hungary, Iceland, Italy, Latvia, Lithuania, Luxembourg, the Netherlands, Norway, Poland, Portugal, Romania, Slovakia, Slovenia, Spain, Turkey, the United Kingdom, and the United States.

* * * * *

PART 774—[AMENDED]

6. The authority citation for 15 CFR part 774 is revised to read as follows:

Authority: 50 U.S.C. app. 2401 et seq.; 50 U.S.C. 1701 et seq.; 10 U.S.C. 7420; 10 U.S.C. 7430(e); 18 U.S.C. 2510 et seq.; 22 U.S.C. 287c, 22 U.S.C. 3201 et seq., 22 U.S.C. 6004; 30 U.S.C. 185(s), 185(u); 42 U.S.C. 2139a; 42 U.S.C. 6212; 43 U.S.C. 1354; 46 U.S.C. app. 466c; 50 U.S.C. app. 5; Sec. 901-911, Pub. L. 106-387; Sec. 221, Pub. L. 107-56; E.O. 13026, 61 FR 58767, 3 CFR, 1996 Comp., p. 228; E.O. 13222, 66 FR 44025, 3 CFR, 2001 Comp., p. 783; Notice of August 7, 2003, 68 FR 47833, 3 CFR, 2003 Comp., p. 328.

7. In Supplement No. 1 to part 774, Category 9 “Propulsion Systems, Space Vehicles and Related Equipment”, ECCNs 9D018 and 9E018 are amended by revising the “TSR” entry in the License Exception sections to read as follows:

9D018 “Software” for the “use” of equipment controlled by 9A018.

* * * * *

License Exceptions

CIV: * * *

TSR: Yes for Australia, Japan, New Zealand, and NATO countries that are also listed in Country Group B of Supplement No. 1 to part 740 of the EAR.

* * * * *

9E018 “Technology” for the “development”, “production”, or “use” of equipment controlled by 9A018.

* * * * *

License Exceptions

CIV: * * *

TSR: Yes for Australia, Japan, New Zealand, and NATO countries that are also listed in Country Group B of Supplement No. 1 to part 740 of the EAR.

* * * * *

Dated: June 17, 2004.
Peter Lichtenbaum,
Assistant Secretary for Export Administration.

[FR Doc. 04-14625 Filed 6-25-04; 8:45 am]

BILLING CODE 3510-33-P